NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: The National Science Foundation published notices in the Federal Register of permit applications received from the following applicants on:

William Gilmore (2004-011), August 19, 2003; Howard Evans (2004-005), September 29, 2003; Paul R. Renne (2004-017), October 27, 2003; and Thomas A. Day (2004-018), November 10, 2003.

Permits were issued to these four applicants on December 15, 2003.

Nadene G. Kennedy,
Permit Officer.

[FR Doc. 03-31617 Filed 12-23-03; 8:45 am]

BILLING CODE 7555-01-M